DEPARTMENT OF LABOR

Employment and Training Administration

[TA-W-62,153]

ITT Marine & Leisure, Santa Ana, CA; Notice of Termination of Investigation

Pursuant to Section 221 of the Trade Act of 1974, as amended, an investigation was initiated on September 18, 2007 in response to a worker petition filed by a state agency representative on behalf of workers of ITT Marine & Leisure, Santa Ana, California.

The petitioning group of workers is covered by an active certification (TA-W-58,928) which expires on March 23, 2008. This certification was amended on September 22, 2006 to cover all workers of ITT Marine & Leisure, Santa Ana, California. Consequently, further investigation in this case would serve no purpose, and the investigation has been terminated.

Signed at Washington, DC, this 20th day of September 2007.
Linda G. Poole,
Certifying Officer, Division of Trade Adjustment Assistance.

[FR Doc. E7-19024 Filed 9-26-07; 8:45 am]

BILLING CODE 4510-FN-P